FEDERAL COMMUNICATIONS COMMISSION

Notice of Public Information Collection(s) Being Submitted for Review to the Office of Management and Budget

March 2, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 14, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._ Zaleski@omb.eop.gov and to Judith-B. Herman@fcc.gov, Federal Communications Commission, Room 1-B441, 445 12th Street, SW., Washington, DC 20554 or an e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-1003.

Title: Communications Providers Emergency Contact Information.

Form No.: N/A.

Type of Review: Revision of a currently approved collection.

Respondents: Business or other for-profit, not-for-profit institutions, Federal, and state, local or tribal government.

Number of Respondents: 5,000 respondents for initial contact information; 300 respondents for critical information input.

Estimated Time Per Response: 0.1 hours for initial contact information; 0.5 hours for initial input of critical information; and 0.1 hours for daily updates of critical information.

Frequency of Response: On occasion and annual reporting requirements. Annual requirement is for initial contact information. For critical information, the information is requested on a daily basis during a declared emergency. Assuming two emergencies are declared during the year, the information is updated daily until the emergency ends, on average about 20 days.

Obligation to Respond: Voluntary, and as necessary

Total Annual Burden: 500 hour for initial contact information; 1,500 hour for critical information input = 2,000 total annual burden hours.

Total Annual Cost: N/A.

Privacy Act Impact Assessment: N/A.

Nature and Extent of Confidentiality: The Commission is not requesting that the respondents submit confidential information to the Commission. If the Commission requests respondents to submit information that they believe is confidential, respondents may request confidential treatment of such information under 47 CFR 0.459 of the Commission's rules.

Needs and Uses: The Commission will submit this revised information collection to OMB after this 60-day comment period to obtain the full three year clearance from them.

This collection as currently approved by OMB is needed to be able to reach emergency contact personnel at key telecommunications providers (such as wireline, wireless, broadcast, cable and satellite entities) during an emergency to assess the status of their facilities and network(s), and to determine appropriate agency response. The Commission's staff through the agency collected this emergency contact information via telephone.

In order to perform its homeland security and public safety functions, the Commission needs to revise this information collection to update the manner in which it collects emergency contact information, and in the event of an actual emergency to allow communications providers to input critical information about network status and resource requirements of communications providers. The FCC will revise this collection to provide an electronic database for communications providers to enter this information electronically, via the Internet. Communications providers are encouraged to volunteer this information. This database will be used initially for communications providers to enter basic contact information. In the event of a natural disaster or other emergency event, the database will be used to contact communications providers in affected areas and to determine the extent of any damage and to gauge the appropriate agency response.

Federal Communications Commission.
Marlene H. Dortch,
Secretary.

[FR Doc. E7-4652 Filed 3-13-07; 8:45 am]

BILLING CODE 6712-01-P